DEPARTMENT OF DEFENSE

Office of the Secretary

Meeting Invitation to Industry and Comment Period on Draft Edition 3 of Standardization Agreement (STANAG) 4671

AGENCY: United States Office of the Secretary of Defense through the United States Department of Defense for North Atlantic Treaty Organization (NATO) STANAG 4671 Custodial Support Team, DOD.

ACTION: Notice of meeting and document availability.

SUMMARY: The NATO STANAG 4671 Custodial Support Team is inviting industries from NATO countries to review Edition 3 and provide comments and/or concerns prior to finalization and publication for topics of discussion during Industry Day. Interested Industry Day participants may request copy of the draft update to STANAG 4671 (with comment sheet for feedback) by email and copies will be provided within 3 business days of receipt by email only. Upon request from an industry participant to attend Industry Day a formal invitation will be sent via email prior to February 4, 2014 with details for date, location and access requirements. The objective of the March meetings will be to conduct a technical dialogue on the STANAG 4671. Industry Day discussion topics will be generated based on Industry's feedback as well as specific topics identified by the Custodial Support Team. Comments will be prioritized and addressed in an open forum.

DATES: Comments must be submitted no later than January 24, 2014 to Mrs. Sandra A. Greeley at the email address in the FOR FURTHER INFORMATION CONTACT section. A tentative meeting date is set for March 25-26, 2014 in Brussels, Belgium.

ADDRESSES: A copy of STANAG 4671 and the comment sheet may be obtained by emailing Mrs. Sandra A. Greeley at the email address in the FOR FURTHER INFORMATION CONTACT section. The meetings will be held in Brussels, Belgium, the meeting facility location is not yet finalized.

FOR FURTHER INFORMATION CONTACT:

Industry Day Meeting Coordinator: Mrs. Sandra A. Greeley, Email: sandra.a.greeley.ctr@navy.mil, Telephone: (301) 342-8635.

STANAG 4671 Technical Information and Questions: Mr. Daniel Beck, Email: daniel.h.beck2.civ@mail.mil, Telephone: (256) 313-5306.

Dated: January 7, 2014.
Aaron Siegel,
Alternate OSD Federal Register Liaison Officer, Department of Defense.

[FR Doc. 2014-00236 Filed 1-9-14; 8:45 am]

BILLING CODE 5001-06-P